DEPARTMENT OF HEALTH AND HUMAN SERVICES

Advisory Committee on Interdisciplinary, Community-Based Linkages

AGENCY: Health Resources and Service Administration (HRSA), Department of Health and Human Services (HHS).

ACTION: Notice of meeting.

SUMMARY: The Advisory Committee on Interdisciplinary, Community-Based Linkages (ACICBL) has scheduled a public meeting. Information about ACICBL and the agenda for this meeting can be found on the ACICBL website at: https://www.hrsa.gov/advisory-committees/interdisciplinary-community-linkages/index.html.

DATES: August 16, 2018, 8:00 a.m.-2:00 p.m. ET.

ADDRESSES: This meeting will be held by teleconference and webinar.

• Webinar link: https://hrsa.connectsolutions.com/acicbl.

• Conference call-in number: 1-800-324-5531; Passcode: 388458.

FOR FURTHER INFORMATION CONTACT: Joan Weiss, Ph.D., RN, CRNP, FAAN, Senior Advisor and Designated Federal Official (DFO), at Division of Medicine and Dentistry, HRSA, 5600 Fishers Lane, Room 15N39, Rockville, Maryland 20857; 301-443-0430; or jweiss@hrsa.gov.

SUPPLEMENTARY INFORMATION: ACICBL provides advice and recommendations to the Secretary of HHS and to Congress on a broad range of issues relating to grant programs authorized by sections 750-760, Title VII, Part D of the Public Health Service Act. During the August 16, 2018, meeting, ACICBL members will discuss preparing the current and future healthcare workforce to practice in age-friendly health systems within the context of the quadruple aim. The quadruple aim focuses on enhancing the patient experience, improving population health, and reducing costs while improving the work life of health care providers, including clinicians and staff. ACICBL submits reports to the Secretary of HHS, the Committee on Health, Education, Labor, and Pensions of the Senate, and the Committee on Energy and Commerce of the House of Representatives. An agenda will be posted on the ACICBL website prior to the meeting. Agenda items are subject to change as priorities dictate.

Members of the public will have the opportunity to provide comments. Oral comments will be honored in the order they are requested and may be limited as time allows. Requests to submit a written statement or make oral comments to ACICBL should be sent to Dr. Joan Weiss, DFO, using the contact information above at least 3 business days prior to the meeting. Individuals who plan to attend and need special assistance or another reasonable accommodation should notify Dr. Joan Weiss at the address and phone number listed above at least 10 business days prior to the meeting.

Amy P. McNulty,
Acting Director, Division of the Executive Secretariat.

[FR Doc. 2018-16671 Filed 8-2-18; 8:45 am]

BILLING CODE 4165-15-P